INTERNATIONAL TRADE COMMISSION

[USITC SE-18-059]

Change of Date of Government in the Sunshine Act Meeting; Issuance of Revised Agenda for Meeting of December 7, 2018 at 11:00 a.m.

Agency Holding the Meeting: United States International Trade Commission.

Original Time and Date: December 5, 2018 at 11:00 a.m.

New Date: December 7, 2018 at 11:00 a.m.

Place: Room 100, 500 E Street SW, Washington, DC 20436, Telephone: (202) 205-2000.

Status: Open to the public.

In accordance with 19 CFR 201.35 (d)(2)(i), the Commission hereby gives notice that the Commission has determined to change the date of the meeting originally scheduled for December 5, 2018 at 11:00 a.m. to December 7, 2018 at 11:00 a.m. to consider Inv. Nos. 701-TA-591 and 731-TA-1399 (Final) (Common Alloy Aluminum Sheet from China).

In accordance with Commission policy, subject matter listed above, not disposed of at the scheduled meeting, may be carried over to the agenda of the following meeting. Earlier notification of this change was not possible.

The revised agenda of December 7, 2018 at 11:00 a.m. is as follows:

1. Agendas for future meetings: None.

2. Minutes.

3. Ratification List.

4. Vote on Inv. Nos. 701-TA-614 and 731-TA-1431 (Preliminary)(Magnesium from Israel). The Commission is currently scheduled to complete and file its determinations on December 11, 2018; views of the Commission are currently scheduled to be completed and filed on December 18, 2018.

5. Vote on Inv. Nos. 701-TA-591 and 731-TA-1399 (Final)(Common Alloy Aluminum Sheet from China). The Commission is currently scheduled to complete and file its determinations and views of the Commission by January 2, 2019.

6. Outstanding action jackets: None.

By order of the Commission.
Issued: December 3, 2018.
Lisa Barton,
Secretary to the Commission.

[FR Doc. 2018-26608 Filed 12-4-18; 11:15 am]

BILLING CODE 7020-02-P